DEPARTMENT OF TRANSPORTATION

Federal Aviation Administration

14 CFR Part 71

[Docket No. FAA-2022-0025; Airspace Docket No. 21-ACE-2]

RIN 2120-AA66

Amendment of Multiple Air Traffic Service (ATS) Routes and Establishment of Area Navigation (RNAV) Routes in the Vicinity of Liberal, KS

AGENCY: Federal Aviation Administration (FAA), DOT.

ACTION: Final rule; correction.

SUMMARY: This action corrects a final rule published by the FAA in the Federal Register on June 30, 2022, that amends Jet Routes J-19, J-20, J-52, J-98, J-134, and J-231, RNAV route Q-176, and VHF Omnidirectional Range (VOR) Federal airways V-210, V-234, V-350, and V-507; and establishes RNAV routes T-418 and T-431. The final rule identified the KENTO, NM, route point as a waypoint (WP), in error. This action makes editorial corrections to all references of the KENTO, NM, waypoint (WP) to change them to the KENTO, NM, Fix to match the FAA's aeronautical database information.

DATES: Effective date 0901 UTC, September 8, 2022. The Director of the Federal Register approves this incorporation by reference action under 1 CFR part 51, subject to the annual revision of FAA Order 7400.11 and publication of conforming amendments.

ADDRESSES: FAA Order 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule (87 FR 38916; June 30, 2022), amending Jet Routes J-19, J-20, J-52, J-98, J-134, and J-231, RNAV route Q-176, and VHF Omnidirectional Range (VOR) Federal airways V-210, V-234, V-350, and V-507; and establishing RNAV routes T-418 and T-431 due to the planned decommissioning of the VOR portion of the Liberal, KS (LBL), VOR/Tactical Air Navigation (VORTAC) navigational aid (NAVAID). Subsequent to publication, the FAA determined that the KENTO, NM, route point was inadvertently identified as a WP, in error. This rule corrects that error by changing all references to the KENTO, NM, WP to the KENTO, NM, Fix. This is an editorial change only to match the FAA's aeronautical database information and does not alter the alignment of the affected Air Traffic Service (ATS) routes, Q-176 and T-431.

Jet Routes are published in paragraph 2004, RNAV Q-routes are published in paragraph 2006, VOR Federal airways are published in paragraph 6010(a), and United States RNAV T-routes are published in paragraph 6011 of FAA Order JO 7400.11F, dated August 10, 2021, and effective September 15, 2021, which is incorporated by reference in 14 CFR 71.1. The ATS routes listed in this document will be published subsequently in FAA Order JO 7400.11.

Correction to Final Rule

Accordingly, pursuant to the authority delegated to me, all references to the KENTO, NM, WP reflected in Docket No. FAA-2022-0025, as published in the Federal Register of June 30, 2022 (87 FR 38916), FR Doc. 2022-13844, are corrected as follows:

1. In FR Doc. 2022-13844, appearing on page 38917, in the first column, at line 19, correct “KENTO, NM, WP” to read “KENTO, NM, Fix.”

2. In FR Doc. 2022-13844, appearing on page 38918, in the first column, at line 10, correct “KENTO, NM, WP” to read “KENTO, NM, Fix.”

3. In FR Doc. 2022-13844, appearing on page 38918, in the third column, at lines 53, correct “KENTO, NM, WP” to read “KENTO, NM, FIX.”

4. In FR Doc. 2022-13844, appearing on page 38919, in the third column, at line 22, correct “KENTO, NM, WP” to read “KENTO, NM, FIX.”

Issued in Washington, DC, on August 3, 2022.
Scott M. Rosenbloom,
Manager, Airspace Rules and Regulations.

[FR Doc. 2022-17030 Filed 8-11-22; 8:45 am]

BILLING CODE 4910-13-P